DEPARTMENT OF HOMELAND SECURITY

Office of the Secretary

[Docket No. DHS- 2015-0063]

Privacy Act of 1974; Department of Homeland Security/ALL-010 Asset Management Records System of Records

AGENCY: Privacy Office, Department of Homeland Security.

ACTION: Notice of Privacy Act system of records.

SUMMARY: In accordance with the Privacy Act of 1974, the Department of Homeland Security proposes to update and reissue a current Department of Homeland Security system of records titled “Department of Homeland Security/ALL-010 Asset Management Records System of Records.” This system allows the Department of Homeland Security to collect and maintain records of all Department-owned or controlled property that has been issued to DHS employees and contractors. As a result of a biennial review of this system, the Department of Homeland Security is updating this system of records notice to update the (1) category of records, (2) routine uses, (3) reflect an additional system location, and (4) update the record source categories. Additionally, this notice includes non-substantive changes to simplify the formatting and text of the previously published notice.

DATES: Submit comments on or before October 28, 2015. This updated system will be effective October 28, 2015.

ADDRESSES: You may submit comments, identified by docket number DHS- 2015-0063by one of the following methods:

• Federal e-Rulemaking Portal: http://www.regulations.gov. Follow the instructions for submitting comments.

• Fax: 202-343-4010.

• Mail: Karen L. Neuman, Chief Privacy Officer, Privacy Office, Department of Homeland Security, Washington, DC 20528-0655.

Instructions: All submissions received must include the agency name and docket number for this rulemaking. All comments received will be posted without change to http://www.regulations.gov, including any personal information provided.

Docket: For access to the docket to read background documents or comments received, please visit http://www.regulations.gov.

FOR FURTHER INFORMATION CONTACT: For general and privacy questions please contact: Karen L. Neuman, (202) 343-1717, Chief Privacy Officer, Privacy Office, Department of Homeland Security, Washington, DC 20528-0655.

SUPPLEMENTARY INFORMATION:

I. Background

In accordance with the Privacy Act of 1974, 5 U.S.C. 552a, the Department of Homeland Security (DHS) proposes to update and reissue a current DHS system of records titled, “DHS/ALL-010 Asset Management Records System of Records.”

This system allows DHS to collect and maintain records of all Department-owned or controlled property that has been issued to DHS employees and contractors. DHS is updating this System of Records (SORN) to provide notice that asset management activities for three DHS Components: Domestic and Nuclear Detection Office (DNDO), Transportation Security Administration (TSA), and the United States Coast Guard (USCG), are transferring their financial management systems to the Department of Interior's (DOI) Oracle Federal Financials (OFF) Virtual Environment. OFF is an application owned by DOI that provides federal agencies with a web-based application that contains customizable financial management modules. When combined, the modules provide a comprehensive financial software package that supports budgeting, purchasing, federal procurement, accounts payable, fixed assets, general ledger, inventory, accounts receivable, reimbursement, reporting, and collection functions. Although DOI will host DHS information, DHS will retain control over its data. Individuals should request DHS records resident on the DOI system through DHS and DHS will review and if approve (as appropriate) all requests.

DHS is updating the category of records to replace Social Security number with Employee ID number and remove “outstanding debts related to said property.” After surveying asset managers throughout the Department, DHS confirmed that Social Security numbers are not used for tracking Departmental assets. Some Components, however, use an Employee ID number that is not the Social Security number. Outstanding debts related to DHS assets are more appropriately covered under the existing DHS/ALL-008 Accounts Receivable System of Records (73 FR 61885, October 17, 2008). DHS is also publishing an update the DHS/ALL-008 concurrent with this SORN. DHS is updating the system location to provide notice that DHS information will be maintained at DOI.

DHS is adding a new routine use I to permit DHS to share records with the Merit Systems Protection Board, arbitrators, the Federal Labors Relations Authority, Equal Employment Opportunity Commission and other parties responsible for the administration of the Federal Labor-Management Program, to align with other DHS SORNs. DHS is also updating and renumbering routine use J (formerly routine use I), which will allow DHS to share information with federal agencies that host shared financial services, such as DOI's web-based financial management application. DHS is updating the record source categories to remove “employee locator documentation” because this is not a source of information for the categories of individuals and records in this system of records. Additionally, this notice includes non-substantive changes to simplify the formatting and text of the previously published notice.

Consistent with DHS's information sharing mission, information stored in the DHS/ALL-010 Asset Management Records system of records may be shared with other DHS Components that have a need to know the information to carry out their national security, law enforcement, immigration, intelligence, or other homeland security functions. In addition, DHS may share information with appropriate federal, state, local, tribal, territorial, foreign, and international government agencies, members of the public, and other entities consistent with the routine uses set forth in this system of records notice.

This updated system will be included in DHS's inventory of record systems.

II. Privacy Act

The Privacy Act embodies fair information principles in a statutory framework governing the means by which Federal Government agencies collect, maintain, use, and disseminate individuals' records. The Privacy Act applies to information that is maintained in a “system of records.” A “system of records” is a group of any records under the control of an agency from which information is retrieved by the name of an individual or by some identifying number, symbol, or other identifying particular assigned to the individual. In the Privacy Act, an individual is defined to encompass United States citizens and legal permanent residents. As a matter of policy, DHS extends administrative Privacy Act protections to all individuals when systems of records maintain information on U.S. citizens, lawful permanent residents, and visitors. Individuals may request access to their own records that are maintained in a system of records in the possession or under the control of DHS by complying with DHS Privacy Act regulations, 6 CFR part 5.

The Privacy Act requires that each agency publish in the Federal Register a description denoting the type and character of each system of records in order to make agency recordkeeping practices transparent, to notify individuals about the use of their records, and to assist the individual to more easily find files within the agency. Below is a description of the DHS/ALL-010 Asset Management Records System of Records.

In accordance with 5 U.S.C. 552a(r), DHS has provided a report of this revised system of records to the Office of Management and Budget and to Congress.

System of Records:

Department of Homeland Security (DHS)/ALL-010

System name:

DHS/ALL-010 Asset Management Records

Security classification:

Unclassified.

System location:

DHS maintains records at several Headquarters locations and in Component offices of DHS, in both Washington, DC and field locations. DHS also maintains records in the Department of Interior's (DOI) Oracle Federal Financials (OFF) Virtual Environment in Reston, VA and Denver, CO.

Categories of individuals covered by the system:

Categories of individuals covered by this system include all current and former DHS employees and contractors assigned government-owned assets (e.g., laptop computers, communication equipment, firearms, and other assets).

Categories of records in the system:

Categories of records maintained in this system include:

• Individual's name;

• Employee ID number; enter Email address;

• Office name;

• Office location;

• Office telephone number;

• Property management records, which include information on government-owned property (e.g., laptop computers, communication equipment, firearms, and other assets) in the personal custody of the individuals covered by this system and used in the performance of their official duties.

Authority for maintenance of the system:

5 U.S.C. 301; the Federal Records Act, 44 U.S.C. 3101; 40 U.S.C. 121; and 41 CFR Chapter 101.

Purpose(s):

The purpose of this system is to track all DHS-owned or controlled property that has been issued to current and former DHS employees and contractors.

Routine uses of records maintained in the system, including categories of users and the purposes of such uses:

In addition to those disclosures generally permitted under 5 U.S.C. 552a(b) of the Privacy Act, all or a portion of the records of information contained in this system may be disclosed outside DHS as a routine use pursuant to 5 U.S.C. 552a(b)(3) as follows:

A. To the Department of Justice (DOJ), including Offices of the United States Attorneys, or other federal agency conducting litigation or in proceedings before any court, adjudicative, or administrative body when it is relevant or necessary to the litigation and one of the following is a party to the litigation or has an interest in such litigation:

1. DHS or any Component thereof;

2. Any employee or former employee of DHS in his/her official capacity;

3. Any employee or former employee of DHS in his/her individual capacity when DOJ or DHS has agreed to represent the employee; or

4. The United States or any agency thereof.

B. To a congressional office from the record of an individual in response to an inquiry from that congressional office made at the request of the individual to whom the record pertains.

C. To the National Archives and Records Administration (NARA) or General Services Administration pursuant to records management inspections being conducted under the authority of 44 U.S.C. 2904 and 2906.

D. To an agency or organization for the purpose of performing audit or oversight operations as authorized by law, but only such information as is necessary and relevant to such audit or oversight function.

E. To appropriate agencies, entities, and persons when:

1. DHS suspects or has confirmed that the security or confidentiality of information in the system of records has been compromised;

2. DHS has determined that as a result of the suspected or confirmed compromise, there is a risk of identity theft or fraud, harm to economic or property interests, harm to an individual, or harm to the security or integrity of this system or other systems or programs (whether maintained by DHS or another agency or entity) or harm to the individual who relies upon the compromised information; and

3. The disclosure made to such agencies, entities, and persons is reasonably necessary to assist in connection with DHS's efforts to respond to the suspected or confirmed compromise and prevent, minimize, or remedy such harm.

F. To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

G. To an appropriate federal, state, tribal, local, international, or foreign law enforcement agency or other appropriate authority charged with investigating or prosecuting a violation or enforcing or implementing a law, rule, regulation, or order, when a record, either on its face or in conjunction with other information, indicates a violation or potential violation of law, which includes criminal, civil, or regulatory violations and such disclosure is proper and consistent with the official duties of the person making the disclosure.

H. To unions recognized as exclusive bargaining representatives under the Civil Service Reform Act of 1978, 5 U.S.C. 7111 and 7114.

I. To the Merit Systems Protection Board, arbitrators, the Federal Labors Relations Authority, Equal Employment Opportunity Commission and other parties responsible for the administration of the Federal Labor-Management Program for the purpose of processing any corrective actions, or grievances, or conducting administrative hearings or appeals, or if needed in the performance of other authorized duties.

J. To federal agencies that provide financial management services for DHS Components under a cross-servicing agreement for purposes such as budgeting, purchasing, procurement, reimbursement, asset management, reporting, and collection functions.

K. To the news media and the public, with the approval of the Chief Privacy Officer in consultation with counsel, when there exists a legitimate public interest in the disclosure of the information, when disclosure is necessary to preserve confidence in the integrity of DHS, when disclosure is necessary to demonstrate the accountability of DHS's officers, employees, or individuals covered by the system, except to the extent the Chief Privacy Officer determines that release of the specific information in the context of a particular case would constitute an unwarranted invasion of personal privacy.

Disclosure to consumer reporting agencies:

None.

Policies and practices for storing, retrieving, accessing, retaining, and disposing of records in the system:

Storage:

DHS stores records in this system electronically in multiple databases or on paper in secure facilities in a locked drawer behind a locked door. The records are stored on magnetic disc, tape, digital media, and CD-ROM.

Retrievability:

DHS retrieves data by name or employee ID number.

Safeguards:

DHS safeguards records in this system in accordance with applicable rules and policies, including all applicable DHS automated systems security and access policies. DHS has imposed strict controls to minimize the risk of compromising the information that is being stored. DHS limits access to the computer system containing the records to those individuals who have a need to know the information for the performance of their official duties and who have appropriate clearances or permissions.

Retention and disposal:

DHS destroys records in accordance with the NARA General Record Schedule 3, Inventory Files (NC1-64-77-5 item 10b), and are destroyed two years after equipment is removed from agency control.

System Manager and address:

The Chief Readiness Support Officer, Department of Homeland Security, Washington, DC 20528.

Notification procedure:

Individuals seeking notification of and access to any record contained in this system of records, including DHS records hosted by another federal agency under a cross-servicing agreement for financial management services, or seeking to contest its content, may submit a request in writing to the Headquarters or Component's Freedom of Information Act (FOIA) Officer, whose contact information can be found at http://www.dhs.gov/foia-contact-information. If an individual believes more than one Component maintains Privacy Act records concerning him or her the individual may submit the request to the Chief Privacy Officer, Department of Homeland Security, 245 Murray Drive SW., Building 410, STOP-0655, Washington, DC 20528-0655.

When seeking records about yourself from this system of records or any other Departmental system of records, your request must conform with the Privacy Act regulations set forth in 6 CFR part 5. You must first verify your identity, meaning that you must provide your full name, current address, and date and place of birth. You must sign your request, and your signature must either be notarized or submitted under 28 U.S.C. 1746, a law that permits statements to be made under penalty of perjury as a substitute for notarization. While no specific form is required, you may obtain forms for this purpose from the Chief Privacy and FOIA Officer, http://www.dhs.gov/foia or 1-866-431-0486. In addition, you should:

• Explain why you believe the Department would have information on you;

• Identify which Component(s) of the Department you believe may have the information about you;

• Specify when you believe the records would have been created; and

• Provide any other information that will help the FOIA staff determine which DHS Component agency may have responsive records;

If your request is seeking records pertaining to another living individual, you must include a statement from that individual certifying his/her agreement for you to access his/her records.

Without the above information, the Component(s) may not be able to conduct an effective search, and your request may be denied due to lack of specificity or lack of compliance with applicable regulations.

Record access procedures:

See “Notification procedure” above.

Contesting record procedures:

See “Notification procedure” above.

Record source categories:

Records are generated from property purchase orders and receipts; acquisition, transfer and disposal of data; or otherwise from the record subject.

Exemptions claimed for the system:

None.

Dated: September 18, 2015.
Karen L. Neuman,
Chief Privacy Officer, Department of Homeland Security.

[FR Doc. 2015-24583 Filed 9-25-15; 8:45 am]

BILLING CODE 9110-9B-P